FEDERAL COMMUNICATIONS COMMISSION

Open Commission Meeting, Thursday, November 16, 2017

November 9, 2017.

The Federal Communications Commission will hold an Open Meeting on the subjects listed below on Thursday, November 16, 2017 which is scheduled to commence at 10:30 a.m. in Room TW-C305, at 445 12th Street SW., Washington, DC.

Item No. | Bureau | Subject
1 | CONSUMER & GOVERNMENTAL AFFAIRS | Title: Advanced Methods to Target and Eliminate Unlawful Robocalls (CG Docket No. 17-59)). Summary: The Commission will consider a Report and Order that would expressly authorize voice service providers to block certain types of robocalls that falsely appear to be from telephone numbers that do not or cannot make outgoing calls. It also would prohibit voice service providers from blocking 911 calls under these rules, encourage voice service providers to provide a mechanism to allow subscribers whose legitimate calls are blocked in error to stop such blocking, and clarify that providers may exclude calls blocked under these rules from their call completion reports.
2 | OFFICE OF ENGINEERING & TECHNOLOGY, INTERNATIONAL AND WIRELESS TELE-COMMUNICATIONS | Title: Use of Spectrum Bands Above 24 GHz For Mobile Radio Services (GN Docket No. 14-177); Establishing a More Flexible Framework to Facilitate Satellite Operations in the 27.5-28.35 GHz and 37.5-40 GHz Bands (IB Docket No. 15-256); Amendment of Parts 1, 22, 24, 27, 74, 80, 90, 95, and 101 To Establish Uniform License Renewal, Discontinuance of Operation, and Geographic Partitioning and Spectrum Disaggregation Rules and Policies for Certain Wireless Radio Services (WT Docket No. 10-112); Allocation and Designation of Spectrum for Fixed-Satellite Services in the 37.5-38.5 GHz, 40.5-41.5 GHz and 48.2-50.2 GHz Frequency Bands; Allocation of Spectrum to Upgrade Fixed and Mobile Allocations in the 40.5-42.5 GHz Frequency Band; Allocations of Spectrum in the 46.9-47.0 GHz Frequency Band for Wireless Services; and Allocation of Spectrum in the 37.0-38.0 and 40.0-40.5 GHz for Government Operations (IB Docket No 97-95).
|  | Summary: The Commission will consider a Second Report and Order, Second Further Notice of Proposed Rulemaking, Order on Reconsideration, and Memorandum Opinion and Order that would make available 1,700 MHz of additional high-frequency spectrum for flexible terrestrial wireless use; provide 4 gigahertz for satellite use; and adopt, refine, or affirm a number of service rules to promote robust deployment in these bands, and a Second Further Notice of Proposed Rulemaking seeking comment on certain related earth station, buildout, and licensing issues.
3 | WIRELINE TELE-COMMUNICATIONS | Title: Accelerating Wireless Broadband Deployment by Removing Barriers to Infrastructure Investment (WT Docket No. 17-79).
|  | Summary: The Commission will consider a Report and Order to eliminate the requirement for historic preservation review where utility poles are replaced with substantially identical poles that can support antennas or other wireless communications equipment, and to consolidate the Commission's historic preservation review rules into a single rule.
4 | WIRELINE COMPETITION | Title: Accelerating Wireline Broadband Deployment by Removing Barriers to Infrastructure Investment (WC Docket No. 17-84).
|  | Summary: The Commission will consider a Report and Order, Declaratory Ruling, and Further Notice of Proposed Rulemaking and Order that will revise and seek comment on further changes to the Commission's pole attachment rules, network change disclosure processes, and section 214(a) discontinuance processes to remove barriers to infrastructure investment and promote broadband deployment, and will seek comment on taking targeted actions to facilitate rebuilding and repairing broadband infrastructure after natural disasters.
5 | WIRELINE COMPETITION | Title: Bridging the Digital Divide for Low-Income Consumers (WC Docket No. 17-287); Lifeline and Link Up Reform and Modernization (WC Docket No. 11-42); Telecommunications Carriers Eligible for Universal Service Support (WC Docket No. 09-197).
|  | Summary: The Commission will consider a Fourth Report and Order, Order on Reconsideration, Memorandum Opinion and Order, Notice of Proposed Rulemaking, and Notice of Inquiry to adopt and propose measures to effectively and efficiently bridge the digital divide for Lifeline subscribers and reduce waste, fraud, and abuse in the Lifeline program.
6 | MEDIA | Title: 2014 Quadrennial Regulatory Review—Review of the Commission's Broadcast Ownership Rules and Other Rules Adopted Pursuant to Section 202 of the Telecommunications Act of 1996 (MB Docket No. 14-50); 2010 Quadrennial Regulatory Review—Review of the Commission's Broadcast Ownership Rules and Other Rules Adopted Pursuant to Section 202 of the Telecommunications Act of 1996 (MB Docket No. 09-182); Promoting Diversification of Ownership In the Broadcasting Services (MB Docket No. 07-294); Rules and Policies Concerning Attribution of Joint Sales Agreements in Local Television Markets (MB Docket No. 04-256); Rules and Policies to Promote New Entry and Ownership Diversity in the Broadcasting Services (MB Docket No. 17-289).
|  | Summary: The Commission will consider an Order on Reconsideration and Notice of Proposed Rulemaking that updates the Commission's broadcast ownership and attribution rules to reflect the current media marketplace, denies various other requests for reconsideration, finds that the Commission will adopt an Incubator Program to promote ownership diversity, and seeks comment on how to structure and administer such a program.
7 | MEDIA | Title: FCC Form 325 Data Collection (MB Docket No. 17-290); Modernization of Media Regulation Initiative (MB Docket No. 17-105.
|  | Summary: The Commission will consider a Notice of Proposed Rulemaking that seeks comment on whether to eliminate Form 325, Annual Report of Cable Television Systems, or, in the alternative, on ways to modernize and streamline the form.
8 | MEDIA AND OFFICE OF ENGINEERING & TECHNOLOGY | Title: Authorizing Permissive Use of the “Next Generation” Broadcast Television Standard (GN Docket No. 16-142). Summary: The Commission will consider a Report and Order and Further Notice of Proposed Rulemaking authorizing television broadcasters to use the Next Generation television transmission standard (ATSC 3.0) on a voluntary, market-driven basis.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-25412 Filed 11-22-17; 8:45 am]

BILLING CODE 6712-01-P